DEPARTMENT OF ENERGY

Federal Energy Regulatory Commission

Combined Notice of Filings #1

Take notice that the Commission received the following electric rate filings:

Docket Numbers: ER16-456-001.

Applicants: PJM Interconnection, L.L.C., Baltimore Gas and Electric Company, Potomac Electric Power Company, Delmarva Power & Light Company, Atlantic City Electric Company.

Description: Compliance filing: BGE, Delmarva, Pepco & Atlantic City submit compliance filing per 2/2/2016 order to be effective 12/3/2015.

Filed Date: 2/29/16.

Accession Number: 20160229-5263.

Comments Due: 5 p.m. ET 3/21/16.

Docket Numbers: ER16-1018-000.

Applicants: Guzman Renewable Energy Partners LLC.

Description: Baseline eTariff Filing: Market-Based Rate Tariff #1 to be effective 2/26/2016.

Filed Date: 2/26/16.

Accession Number: 20160226-5360.

Comments Due: 5 p.m. ET 3/18/16.

Docket Numbers: ER16-1019-000.

Applicants: California Independent System Operator Corporation.

Description: Compliance filing: 2016-02-26_EIM-FNM Price Correction Waiver; Petition for Limited Waiver to be effective N/A.

Filed Date: 2/26/16.

Accession Number: 20160226-5368.

Comments Due: 5 p.m. ET 3/18/16.

Docket Numbers: ER16-1020-000.

Applicants: Florida Power & Light Company.

Description: Section 205(d) Rate Filing: FPL and Homestead Energy Services NITSA and NOA to be effective 3/1/2016.

Filed Date: 2/26/16.

Accession Number: 20160226-5373.

Comments Due: 5 p.m. ET 3/18/16.

Docket Numbers: ER16-1021-000.

Applicants: Arizona Public Service Company.

Description: Section 205(d) Rate Filing: Modifications to Service Agreement Nos. 338, 339, 349, 350, 351 and 352 to be effective 2/10/2016.

Filed Date: 2/26/16.

Accession Number: 20160226-5378.

Comments Due: 5 p.m. ET 3/18/16.

Docket Numbers: ER16-1022-000.

Applicants: Southwest Power Pool, Inc.

Description: Section 205(d) Rate Filing: 3174 Southwestern Electric Power Company GIA to be effective 1/29/2016.

Filed Date: 2/26/16.

Accession Number: 20160226-5380.

Comments Due: 5 p.m. ET 3/18/16.

Docket Numbers: ER16-1024-000.

Applicants: ISO New England Inc., New England Power Company.

Description: Section 205(d) Rate Filing: Original Service Agreement LGIA-ISONE/NEP-15-04 under Schedule 22 of the OATT to be effective 1/19/2016.

Filed Date: 2/29/16.

Accession Number: 20160229-5008.

Comments Due: 5 p.m. ET 3/21/16.

Docket Numbers: ER16-1025-000.

Applicants: Southern California Edison Company.

Description: Request of Southern California Edison Company for authorization to recover incurred costs associated with the Coolwater-Lugo Transmission Project.

Filed Date: 2/26/16.

Accession Number: 20160226-5389.

Comments Due: 5 p.m. ET 3/18/16.

Docket Numbers: ER16-1026-000.

Applicants: Pacific Gas and Electric Company.

Description: Notice of Termination of Pacific Gas and Electric Company of Small Generator Interconnection Service Agreement No. 293 for Lemoore PV 2, LLC.

Filed Date: 2/29/16.

Accession Number: 20160229-5192.

Comments Due: 5 p.m. ET 3/21/16.

Docket Numbers: ER16-1027-000.

Applicants: Midcontinent Independent System Operator, Inc.

Description: Section 205(d) Rate Filing: 2016-02-29_1st Quarter 2016 Clean-Up Filing to be effective 3/1/2016.

Filed Date: 2/29/16.

Accession Number: 20160229-5215.

Comments Due: 5 p.m. ET 3/21/16.

Docket Numbers: ER16-1029-000.

Applicants: Southwest Power Pool, Inc.

Description: Section 205(d) Rate Filing: 2825R4 KMEA and Westar Energy Meter Agent Agreement to be effective 2/1/2016.

Filed Date: 2/29/16.

Accession Number: 20160229-5252.

Comments Due: 5 p.m. ET 3/21/16.

Docket Numbers: ER16-1030-000.

Applicants: Public Service Company of Colorado.

Description: Section 205(d) Rate Filing: 2016-2-29_SPS Loss Percentage Filing to be effective 5/1/2016.

Filed Date: 2/29/16.

Accession Number: 20160229-5275.

Comments Due: 5 p.m. ET 3/21/16.

Docket Numbers: ER16-1031-000.

Applicants: New England Power Pool Participants Committee.

Description: Section 205(d) Rate Filing: March 2016 Membership Filing to be effective 3/1/2016.

Filed Date: 2/29/16.

Accession Number: 20160229-5289.

Comments Due: 5 p.m. ET 3/21/16.

Docket Numbers: ER16-1032-000.

Applicants: Beaver Dam Energy LLC.

Description: Compliance filing: Reactive Power Filing to be effective 6/1/2016.

Filed Date: 2/29/16.

Accession Number: 20160229-5322.

Comments Due: 5 p.m. ET 3/21/16.

Docket Numbers: ER16-1033-000.

Applicants: Windrose Power and Gas LLC.

Description: Baseline eTariff Filing: Market Based Rate Tariff to be effective 3/29/2016.

Filed Date: 2/29/16.

Accession Number: 20160229-5325.

Comments Due: 5 p.m. ET 3/21/16.

Docket Numbers: ER16-1035-000.

Applicants: ITC Midwest LLC.

Description: Section 205(d) Rate Filing: Concurrence IPL Amended Exhibits and Attachments to be effective 4/26/2016.

Filed Date: 2/29/16.

Accession Number: 20160229-5365.

Comments Due: 5 p.m. ET 3/21/16.

Docket Numbers: ER16-1036-000.

Applicants: Wolverine Power Supply Cooperative, Inc.

Description: Section 205(d) Rate Filing: Wolverine Reactive Supply Service to be effective 5/1/2016.

Filed Date: 2/29/16.

Accession Number: 20160229-5370.

Comments Due: 5 p.m. ET 3/21/16.

Take notice that the Commission received the following PURPA 210(m)(3) filings:

Docket Numbers: QM16-1-000.

Applicants: Nebraska Public Power District.

Description: Second Supplement to February 12, 2016 Application of Nebraska Public Power District to Terminate Mandatory Purchase Obligation Under the Public Utility Regulatory Policies Act.

Filed Date: 3/25/16.

Accession Number: 20160226-5385.

Comments Due: 5 p.m. ET 3/25/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 29, 2016.
Nathaniel J. Davis, Sr.,
Deputy Secretary.

[FR Doc. 2016-05497 Filed 3-10-16; 8:45 am]

BILLING CODE 6717-01-P